FEDERAL COMMUNICATIONS COMMISSION

47 CFR Part 64

[CG Docket Nos. 03-123 and 10-51; FCC 21-61; FRS 31248]

Video Relay Service Compensation; Correction

AGENCY: Federal Communications Commission.

ACTION: Proposed rule; correction.

SUMMARY: This document corrects the inadvertent omission of the DATES section in the preamble to a proposed rule document published in the Federal Register on June 4, 2021. This correction provides the due dates for comments and reply comments to the Notice of Proposed Rulemaking summarized in the Federal Register document.

DATES: Comments are due July 15, 2021. Reply comments are due July 30, 2021.

ADDRESSES: You may submit comments, identified by CG Docket Nos. 03-123 and 10-51, by either of the following methods:

• Federal Communications Commission's website: https://www.fcc.gov/ecfs/filings. Follow the instructions for submitting comments.

• Paper Filers: Parties who choose to file by paper must file an original and one copy of each filing. Filings can be sent by hand or messenger delivery, by commercial overnight courier, or by first-class or overnight U.S. Postal Service mail. Currently, the Commission does not accept any hand delivered or messenger delivered filings as a temporary measure taken to help protect the health and safety of individuals, and to mitigate the transmission of COVID-19. All filings must be addressed to the Commission's Secretary, Office of the Secretary, Federal Communications Commission.

For detailed instructions for submitting comments and additional information on the rulemaking process, see document FCC 21-61 at https://docs.fcc.gov/public/attachments/FCC-21-61A1.pdf.

FOR FURTHER INFORMATION CONTACT: Michael Scott, Consumer and Governmental Affairs Bureau, (202) 418-1264, or email Michael.Scott@fcc.gov.

SUPPLEMENTARY INFORMATION:

Correction

In the proposed rules document published at 86 FR 29969, June 4, 2021, make the following correction. On page 29969 in the third column, add after the SUMMARY the following: “DATES: Comments are due July 15, 2021. Reply comments are due July 30, 2021.”

Federal Communications Commission.
Marlene Dortch,
Secretary, Office of the Secretary.

[FR Doc. 2021-12323 Filed 6-14-21; 8:45 am]

BILLING CODE 6712-01-P